DEPARTMENT OF DEFENSE

Office of the Secretary

Defense Science Board; Notice of Federal Advisory Committee Meeting

AGENCY: Under Secretary of Defense for Research and Engineering, Department of Defense (DoD).

ACTION: Notice of Federal Advisory Committee meeting.

SUMMARY: The DoD is publishing this notice to announce that the following Federal Advisory Committee meeting of the Defense Science Board (DSB) will take place.

DATES: Closed to the public Thursday, February 16, 2023 from 8 a.m. to 4:15 p.m.

ADDRESSES: The address of the closed meeting is conference room 3A912A at the Pentagon, Washington, DC 20301.

FOR FURTHER INFORMATION CONTACT: Mr. Kevin Doxey, Designated Federal Officer (DFO) (703) 571-0081 (Voice), (703) 697-1860 (Facsimile), kevin.a.doxey.civ@mail.mil (Email). Mailing address is Defense Science Board, 3140 Defense Pentagon, Room 2A528, Washington, DC 20301-3140. Website: http://www.acq.osd.mil/dsb/. The most up-to-date changes to the meeting agenda can be found on the website.

SUPPLEMENTARY INFORMATION: This meeting is being held under the provisions of chapter 10 of title 5, U.S. Code (commonly known as the Federal Advisory Committee Act (FACA) (5 U.S.C. Appendix)), 5 U.S.C. 552b(c) (commonly known as the Government in the Sunshine Act), and sections 102-3.140 and 102-3.150 of title 41, Code of Federal Regulations (CFR).

Due to circumstances beyond the control of the Designated Federal Officer, the Defense Science Board was unable to provide public notification required by 41 CFR 102-3.150(a) concerning its February 16, 2023 meeting. Accordingly, the Advisory Committee Management Officer for the Department of Defense, pursuant to 41 CFR 102-3.150(b), waives the 15-calendar day notification requirement.

Purpose of the Meeting: The mission of the DSB is to provide independent advice and recommendations on matters relating to the DoD's scientific and technical enterprise. The objective of the meeting is to obtain, review, and evaluate classified information related to the DSB's mission. DSB membership will meet with DoD Leadership to discuss classified current and future national security challenges and priorities within the DoD.

Agenda: The DSB Quarterly Meeting will begin on February 16, 2023 at 8 a.m. with opening remarks from Mr. Kevin Doxey, the DFO, and Dr. Eric Evans, DSB Chair. The first briefing will be from Dr. Dave Honey, Deputy Under Secretary of Defense for Research & Engineering, who will provide classified technical remarks on his view on defense technical challenges and priorities, to include microelectronics. Next, Dr. Eric Evans, DSB Chair, will provide classified updates on ongoing DSB studies to include the DSB Task Force on National Security Innovation Activities, DSB Task Force on Emerging Biotechnologies and National Security, DSB Task Force on Future Cyber Warfighting Capabilities for the DoD. Next, the Director of the Defense Advanced Research Projects Agency (DARPA), Dr. Stephanie Tompkins, will provide classified technical remarks on her view of DARPA's defense challenges and priorities. The next briefing will be from General Mark Milley, Chairman of the Joint Chiefs of Staff, who will provide classified remarks on his view on defense challenges and priorities in regards to current events and modernization efforts. Following the break, the Under Secretary of Defense for Acquisition & Sustainment (USD(A&S)), Dr. Bill LaPlante, will provide classified technical remarks on his view on defense challenges and priorities in his role as USD(A&S). Next, Dr. Eric Evans will provide classified remarks on ongoing DSB studies, to include the DSB Task Force on National Security Innovation Activities, DSB Task Force on Emerging Biotechnologies and National Security, DSB Task Force on Future Cyber Warfighting Capabilities for the DoD. Following the break, Mr. Frank Kendall, Secretary of the Air Force, will provide classified remarks on his view of current defense challenges and priorities for the Air Force related to technology. The meeting will adjourn at 4:15 p.m.

Meeting Accessibility: In accordance with 5 U.S.C. 1009(d) and 41 CFR 102-3.155, the DoD has determined that the DSB meeting will be closed to the public. Specifically, the Under Secretary of Defense for Research & Engineering, in consultation with the DoD Office of the General Counsel, has determined in writing that the meeting will be closed to the public because it will consider matters covered by 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense for Research & Engineering.

Written Statements: In accordance with 5 U.S.C. 1009(a)(3) and 41 CFR 102-3.105(j) and 102-3.140, interested persons may submit a written statement for consideration by the DSB at any time regarding its mission or in response to the stated agenda of a planned meeting. Individuals submitting a written statement must submit their statement to the DSB DFO at the email address provided in the FOR FURTHER INFORMATION CONTACT section at any point.

Dated: February 14, 2023.
Aaron T. Siegel,
Alternate OSD Federal Register Liaison Officer, Department of Defense.

[FR Doc. 2023-03417 Filed 2-16-23; 8:45 am]

BILLING CODE 5001-06-P